DEPARTMENT OF COMMERCE

International Trade Administration

[A-570-069, A-549-835]

Rubber Bands From the People's Republic of China and Thailand: Postponement of Preliminary Determinations in the Less-Than-Fair-Value Investigations

AGENCY: Enforcement and Compliance, International Trade Administration, Department of Commerce.

DATES: Applicable June 26, 2018.

FOR FURTHER INFORMATION CONTACT: Stephanie Berger at (202) 482-2483 (People's Republic of China (China)) and Laurel LaCivita at (202) 482-4243 (Thailand), AD/CVD Operations, Enforcement and Compliance, International Trade Administration, U.S. Department of Commerce, 1401 Constitution Avenue NW, Washington, DC 20230.

SUPPLEMENTARY INFORMATION:

Background

On February 20, 2018, the Department of Commerce (Commerce) initiated less-than-fair-value (LTFV) investigations of imports of rubber bands from China, Sri Lanka, and Thailand.¹ On March 19, 2018, the U.S. International Trade Commission (ITC) notified Commerce of its affirmative preliminary determination with respect to China and Thailand, its negligibility determination concerning imports of rubber bands from Sri Lanka, and its termination of its investigation of imports from Sri Lanka.² On March 22, the ITC published in the Federal Register a notice of its preliminary determination with respect to China and Thailand, and its determination that imports of rubber bands from Sri Lanka are negligible.³ Because the ITC has terminated its investigation of rubber bands from Sri Lanka, Commerce's investigation is also terminated.⁴ The preliminary determinations for China and Thailand are currently due no later than July 10, 2017.

¹ See Rubber Bands from the People's Republic of China, Sri Lanka, and Thailand: Initiation of Less-Than-Fair-Value Investigations, 83 FR 8424 (February 27, 2018).

² See the ITC's letter dated March 19, 2018 (Notification of ITC Preliminary Determinations); see also Rubber Bands from China, Sri Lanka, and Thailand; Determinations, 83 FR 12594 (March 22, 2018); see also ITC publication 4770 (March 2018), Rubber Bands from China, Sri Lanka, and Thailand, Investigation Nos. 701-TA-598-600 and 731-TA-1408-1410 (Preliminary) at page 1.

³ See Rubber Bands from China, Sri Lanka, and Thailand; Determinations, 83 FR 12594 (March 22, 2018).

⁴ See 19 CFR 351.207(d) (stating that Commerce's investigation terminates automatically upon the publication in the Federal Register of the ITC's negative preliminary determination).

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.⁵

⁵ See 19 CFR 351.205(e).

On June 11, 2018, Alliance Rubber Co. (the petitioner) submitted timely requests pursuant to section 703(c)(1)(A) of the Act and 19 CFR 351.205(e) to postpone the preliminary determinations in these LTFV investigations.⁶ The petitioner stated that it requested postponement because Commerce is still conducting its antidumping investigations, and additional time is necessary for interested parties to respond to additional requests from Commerce.

⁶ See letter from the petitioner, “Petition for the Imposition of Antidumping and Countervailing Duties on Rubber Bands from Thailand and China—Petitioner's Request for Postponement of the Preliminary Determinations in the Antidumping Duty Cases,” dated June 11, 2018.

For the reasons stated above and because there are no compelling reasons to deny the petitioner's request, Commerce, in accordance with section 733(c)(1)(A) of the Act, is postponing the deadline for the preliminary determinations by 50 days (i.e., 190 days after the date on which these investigations were initiated). As a result, Commerce will issue its preliminary determinations no later than August 29, 2018. In accordance with section 735(a)(1) of the Act and 19 CFR 351.210(b)(1), the deadline for the final determinations of these investigations will continue to be 75 days after the date of publication of the preliminary determinations, unless postponed at a later date.

This notice is issued and published pursuant to section 733(c)(2) of the Act and 19 CFR 351.205(f)(1).

Dated: June 20, 2018.
Gary Taverman,
Deputy Assistant Secretary for Antidumping and Countervailing Duty Operations, performing the non-exclusive functions and duties of the Assistant Secretary for Enforcement and Compliance.

[FR Doc. 2018-13672 Filed 6-25-18; 8:45 am]

BILLING CODE 3510-DS-P